INTERNATIONAL TRADE COMMISSION

[Investigation No. 337-TA-1398 (Modification and Rescission)]

Certain Smart Wearable Devices, Systems, and Components Thereof; Notice of Commission Determination To Institute Modification and Rescission Proceedings and To Grant a Joint Petition for Limited Service of Confidential Exhibit; Modification of Limited Exclusion Order and Rescission of Cease and Desist Orders; Termination of Modification and Rescission Proceedings

AGENCY: U.S. International Trade Commission.

ACTION: Notice.

SUMMARY: Notice is hereby given that the U.S. International Trade Commission has determined to (i) institute modification and rescission proceedings based on a joint petition to rescind the limited exclusion order (“LEO”) as to respondents RingConn LLC and Shenzhen Ninenovo Technology Limited (collectively, “RingConn”) and rescind in full cease and desist orders (“CDOs”) as to RingConn, and (ii) grant the joint petition for limited service of the confidential exhibit. The LEO is modified to remove reference to RingConn and the CDOs as to RingConn are rescinded. The modification and rescission proceedings are terminated.

FOR FURTHER INFORMATION CONTACT: Joelle P. Justus, Esq., Office of the General Counsel, U.S. International Trade Commission, 500 E Street SW, Washington, DC 20436, telephone (202) 205-2593. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on April 17, 2024, based on a complaint filed by Ouraring, Inc. of San Francisco, California, and Ōura Health Oy of Oulu, Finland (collectively, “Oura”). 89 FR 27452-53 (Apr. 17, 2024). The complaint, as amended, alleged violations of section 337 of the Tariff Act of 1930, as amended, 19 U.S.C. 1337, based upon the importation into the United States, the sale for importation, and the sale within the United States after importation of certain smart wearable devices, systems, and components thereof by reason of the infringement of certain claims of U.S. Patent Nos. 11,868,178 (“the '178 patent”); 10,842,429 (“the '429 patent”); and 11,868,179 (“the '179 patent”). The Commission's notice of investigation named as respondents: (1) Ultrahuman Healthcare Pvt. Ltd. of Bengaluru, India; Ultrahuman Healthcare SP LLC of Abu Dhabi, UAE; and Ultrahuman Healthcare Ltd. of London, United Kingdom (collectively, “Ultrahuman”); (2) Guangdong Jiu Zhi Technology Co. Ltd. of Guangdong, China; and RingConn LLC of Wilmington, Delaware (collectively, “RingConn”); and (3) Circular SAS of Paris, France. The Office of Unfair Import Investigations (“OUII”) was also a party to this investigation.

The complaint and notice of investigation were later amended to change the name of Respondent Guangdong Jiu Zhi Technology Co. Ltd. to Shenzhen Ninenovo Technology Limited because of a corporate name change, and to amend the address for RingConn LLC. Order No. 8 (May 3, 2024), unreviewed by Comm'n Notice, 89 FR 48686-87 (June 7, 2024).

The Commission terminated the investigation as to respondent Circular SAS based on settlement. Order No. 12 (July 9, 2024), unreviewed by Comm'n Notice (Aug. 6, 2024).

The Commission further terminated the investigation as to all claims of the '429 and '179 patents, and all but claims 1, 2, and 12-14 of the '178 patent. Order No. 13 (July 30, 2024), unreviewed by Comm'n Notice (Aug. 22, 2024); Order No. 15 (Sept. 16, 2024), unreviewed by Comm'n Notice (Oct. 7, 2024); Order No. 21 (Dec. 9, 2024), unreviewed by Comm'n Notice (Dec. 23, 2024).

On August 21, 2025, the Commission issued a final determination finding a violation of section 337 by RingConn and Ultrahuman as to the remaining asserted claims of the '178 patent. 90 FR 41594-95 (Aug. 26, 2025). The Commission determined that the appropriate remedy is: (i) an LEO against Ultrahuman's and RingConn's infringing products; and (ii) CDOs against Ultrahuman and RingConn. Id. at 41595. The Commission set the bond during the period of Presidential review at zero (0) percent of the entered value of the infringing articles. Id.

On September 5, 2025, the Commission granted a Joint Motion for Correction and/or Clarification Regarding the Temporal Scope of the Warranty Exemption in the Commission's Remedial Orders. See Comm'n Notice (Sept. 5, 2025). The Commission issued corrected CDOs reflecting that the conduct permitted by the CDOs includes the importation and provision of covered products necessary to replace covered products purchased by consumers prior to the expiration of the period of Presidential review, provided that replacement is pursuant to a warranty for the replaced article.

On November 17, 2025, Oura and RingConn (“Petitioners”) jointly petitioned under 19 U.S.C. 1337(k) and 19 CFR 210.76(a)(1) to rescind the LEO as to RingConn's infringing products and rescind the CDOs as to RingConn. The joint petition further requests that service of the unredacted version of the Patent License & Settlement Agreement (“Settlement Agreement”) between Oura and RingConn be limited to Oura, RingConn, and OUII. The joint petition (“Jt. Pet.”) states that the requested rescission of the orders is warranted because, based on the Settlement Agreement, “RingConn licensed a group of patents including the '178 Patent, the sole basis for the remedial orders issued against RingConn in this Investigation,” and thus the Settlement Agreement “resolves all past and current issues as to RingConn in this Investigation.” Jt. Pet. at 1, 3. The joint petition argues that the Settlement Agreement constitutes a changed condition of fact justifying rescission of the orders as to RingConn. Id. at 3. In accordance with Commission Rule 210.76(a)(3), the joint petition includes confidential and public versions of the Settlement Agreement and states that “[t]here are no other agreements, written or oral, express or implied between Oura and RingConn concerning the subject matter of this Investigation.” Id.; 19 CFR 210.76(a)(3). The joint petition states that Ultrahuman does not oppose the petition. J. Pet. at 1. On November 28, 2025, OUII filed a response in support of the joint petition.

The Commission has determined that the joint petition satisfies the requirements of Commission Rule 210.76(a)(3), 19 CFR 210.76(a)(3). The Commission has further determined that the conditions justifying the remedial orders against RingConn no longer exist, and, therefore, granting the joint petition is warranted under section 337(k) (19 U.S.C. 1337(k)), and Commission Rule 210.76(a)(3). The Commission has thus determined to institute modification and rescission proceedings and to modify the LEO to remove RingConn and rescind in full the CDOs against RingConn based on the Settlement Agreement. The Commission also finds that Petitioners have shown the requisite good cause under Commission Rule 210.76(a)(3) to grant their motion for limited service of confidential Exhibit 1. The Commission issues a modified LEO and an order herewith setting forth its determinations.

The modification and rescission proceedings are terminated.

The Commission vote for this determination took place on December 8, 2025.

This action is taken under the authority of section 337 of the Tariff Act of 1930, as amended (19 U.S.C. 1337), and in Part 210 of the Commission's Rules of Practice and Procedure (19 CFR part 210).

By order of the Commission.
Issued: December 9, 2025.
Lisa Barton,
Secretary to the Commission.

[FR Doc. 2025-22586 Filed 12-11-25; 8:45 am]

BILLING CODE 7020-02-P